DEPARTMENT OF COMMERCE

Submission for OMB Review; Comment Request

DOC has submitted to the Office of Management and Budget (OMB) for clearance the following proposal for collection of information under the provisions of the Paperwork Reduction Act (44 U.S.C. chapter 35).

Agency: Bureau of Economic Analysis (BEA), Commerce.

Title: Annual Survey of Foreign Direct Investment in the United States.

Form Number(s): BE-15 (Long Form), BE-15 (Short Form), and BE-15 Supplement C.

Agency Approval Number: 0608-0034.

Type of Request: Extension of a currently approved collection without any change in the substance or in the method of collection.

Burden: 128,000 hours.

Number of Respondents: 4,975.

Avg Hours Per Response: 26 hours.

Needs and Uses: The U.S. Government requires data from the BE-15 survey to provide reliable, useful, and timely measures of foreign direct investment in the United States, assess its impact on the U.S. economy, and based upon this assessment, make informed policy decisions regarding foreign direct investment in the United States. The data are used to derive annual estimates of the operations of nonbank U.S. affiliates of foreign investors, including their balance sheets; income statements; property, plant, and equipment; external financing; employment and employee compensation; merchandise trade; sales of goods and services; taxes; and research and development (R&D) activity. The data are also used to update similar data for the universe of U.S. affiliates collected once every five years in the BE-12 benchmark survey of foreign direct investment in the United States.

The data from the BE-15 survey complement data from BEA's other ongoing surveys of foreign direct investment in the United States, namely the BE-605 and BE-605 Bank quarterly surveys of transactions and positions between U.S. affiliates and their foreign parents, and the BE-13, Initial Report on a Foreign Person's Direct or Indirect Acquisition, Establishment, or Purchase of the Operating Assets of a U.S. Business Enterprise, Including Real Estate.

Affected Public: U.S. businesses or other for-profit institutions.

Frequency: Annual.

Respondent's Obligation: Mandatory.

Legal Authority: Title 22 U.S.C., Sections 3101-3108, as amended.

OMB Desk Officer: Paul Bugg, (202) 395-3093.

You may obtain copies of the above information collection proposal by calling or writing Madeleine Clayton, Departmental Paperwork Clearance Officer, Office of the Chief Information Officer, (202) 482-3129, Department of Commerce, Room 6086, 14th Street and Constitution Avenue, NW, Washington, DC 20230, or via internet at MClayton@doc.com.

Send comments on the proposed information collection within 30 days of publication of this notice to Paul Bugg, OMB Desk Officer, Room 10201, New Executive Office Building, Washington, DC 20503.

Dated: August 10, 2001.
Madeleine Clayton,
Departmental Paperwork Clearance Officer, Office of the Chief Information Officer.

[FR Doc. 01-20563 Filed 8-14-01; 8:45 am]

BILLING CODE 3510-06-P